DEPARTMENT OF TRANSPORTATION

Office of the Secretary

Aviation Proceedings, Agreements Filed During the Week Ending January 7, 2000

The following Agreements were filed with the Department of Transportation under the provisions of 49 U.S.C. Sections 412 and 414. Answers may be filed within 21 days of date of filing.

Docket Number: OST-2000-6723.

Date Filed: January 4, 2000.

Parties: Members of the International Air Transport Association.

Subject: PTC COMP 0559 dated 4 January 2000; Mail Vote 056 Resolution 011b—(Amending); Global Indicators; Intended effective date: 1 April 2000; for implementation 1 September 2000.

Docket Number: OST-2000-6730.

Date Filed: January 5, 2000.

Parties: Members of the International Air Transport Association.

Subject: PTC23 EUR-SEA 0086 dated 14 December 1999; Expedited Europe-South East Asia Resolution 002o; Intended effective date: 1 February 2000.

Docket Number: OST-2000-6742.

Date Filed: January 6, 2000.

Parties: Members of the International Air Transport Association.

Subject: PTC31 N&C/CIRC 0102 dated 26 November 1999 r1-r2; PTC31 N&C/CIRC 0108 dated 10 December 1999 r3-r9; PTC31 N&C/CIRC 0109 dated 10 December 1999 r10-r27; PTC31 N&C/CIRC 0110 dated 10 December 1999 r28-r43; Minutes—PTC31 N&C/CIRC 0013 dated 23 December 1999; Tables—PTC31 N&C/CIRC Fares 0047 dated 26 November 1999; PTC31 N&C/CIRC Fares 0048 dated 17 December 1999; PTC31 N&C/CIRC Fares 0050 dated 17 December 1999; Intended effective date: 1 April 2000.

Docket Number: OST-2000-6743.

Date Filed: January 6, 2000.

Parties: Members of the International Air Transport Association.

Subject: PTC31 N&C/CIRC 0111 dated 10 December 1999; TC31 North & Central Pacific—TC3-Central America, South America r1-r17; Tables—PTC31 N&C/CIRC Fares 0050; dated 17 December 1999; Intended effective date: 1 April 2000.

Docket Number: OST-2000-6754.

Date Filed: January 7, 2000.

Parties: Members of the International Air Transport Association.

Subject: PTC12 MATL-EUR 0042 dated 3 December 1999; Mid Atlantic-Europe Resolutions r1-r32; Minutes—PTC12 MATL-EUR 0043; dated 21 December 1999; Tables—PTC12 MATL-EUR Fares 0012; dated 17 December 1999; Intended effective date: 1 March 2000.

Docket Number: OST-2000-6755.

Date Filed: January 7, 2000.

Parties: Members of the International Air Transport Association.

Subject: Part 1 PTC2 EUR 0286 dated 7 December 1999 r1-r38; PTC2 EUR 0287 dated 7 December 1999 r39-r42; PTC2 EUR 0288 dated 7 December 1999 r43; PTC2 EUR 0289 dated 7 December 1999 r44-r48; TC2 Within Europe Resolutions r1-r48; Minutes—PTC2 EUR 0284 dated 12 November 1999; Part 2 Tables—PTC2 EUR Fares 0038, Part I dated 10 December 1999; Part 3 PTC2 EUR Fares 0038, Part II dated 10 December 1999; Part 4 PTC2 EUR Fares 0038, Part III dated 10 December 1999; Part 5 PTC2 EUR Fares 0038 Attachment B: Notes dated 10 December 1999; Intended effective date: 1 March, 26 March, 31 March and 1 April 2000.

Dorothy W. Walker,
Federal Register Liaison.

[FR Doc. 00-2555 Filed 2-9-00; 8:45 am]

BILLING CODE 4910-62-P